DEPARTMENT OF COMMERCE

National Oceanic and Atmospheric Administration

RIN 0648-XE608

Gulf of Mexico Fishery Management Council; Public Meetings

AGENCY: National Marine Fisheries Service (NMFS), National Oceanic and Atmospheric Administration (NOAA), Commerce.

ACTION: Notice; public hearings and webinar.

SUMMARY: The Gulf of Mexico Fishery Management Council (Council) will hold seven public hearings and one webinar to solicit public comments on Amendment 45—Sector Separation Sunset.

DATES: The public hearings will be held May 23-31, 2016. The meetings will begin at 6 p.m. and will conclude no later than 9 p.m. For specific dates and times, see SUPPLEMENTARY INFORMATION. Written public comments must be received on or before 5 p.m. EST on Friday, May 20, 2016.

ADDRESSES: The public documents can be obtained by contacting the Gulf of Mexico Fishery Management Council, 2203 N. Lois Avenue, Suite 1100, Tampa, FL 33607; (813) 348-1630 or on their Web site at www.gulfcouncil.org.

Meeting addresses: The public hearings will be held in St. Petersburg, Panama City, FL; Corpus Christi and League City, TX; Biloxi, MS; Mobile, AL; Gretna, LA; and one webinar. For specific locations, see SUPPLEMENTARY INFORMATION.

Public comments: Comments may be submitted online through the Council's public portal by visiting www.gulfcouncil.org and clicking on “CONTACT US”.

FOR FURTHER INFORMATION CONTACT: Douglas Gregory, Executive Director, Gulf of Mexico Fishery Management Council; telephone: (813) 348-1630.

SUPPLEMENTARY INFORMATION: The agenda for the following seven hearings and webinar are as follows: Council staff will brief the public on Draft Amendment 45 to the Fishery Management Plan for the Reef Fish Resources of the Gulf of Mexico. Amendment 45 considers management alternatives to extend or eliminate the red snapper sector separation sunset provision. Following the presentation, Council staff will open the meeting for questions and public comments. The schedule is as follows:

Locations, Schedules, and Agendas

Monday, May 23, 2016; Hilton St. Petersburg Carillon Park, 950 Lake Carillon Drive, St. Petersburg, FL 33716; telephone: (727) 540-0050; IP Casino Resort, 850 Bayview Avenue, Biloxi, MS 39530; telephone: (228) 436-3000.

Tuesday, May 24, 2016; Courtyard Marriott, 905 East 23rd Place, Panama City, FL 32405; telephone: (850) 763-6525.

Wednesday, May 25, 2016; Renaissance Mobile Riverview Plaza Hotel, 64 South Water Street, Mobile, AL 36602; telephone: (251) 438-4000; Hampton Inn and Suites, 2320 Gulf Freeway South, League City, TX 77573; telephone: (281) 614-5437.

Thursday, May 26, 2016; Holiday Inn New Orleans Westbank, 275 Whitney Avenue, Gretna, LA 70053; telephone: (504) 366-8535; Hilton Garden Inn, 6717 South Padre Island Drive, Corpus Christi, TX 78412; telephone: (361) 991-8200.

Tuesday, May 31, 2016—Webinar—6 p.m. EST. To participate in the webinar, please register at: https://attendee.gotowebinar.com/register/5872853717338664961.

After registering, you will receive a confirmation email containing information about joining the webinar.

Special Accommodations

These meetings are physically accessible to people with disabilities. Requests for sign language interpretation or other auxiliary aids should be directed to Kathy Pereira (see ADDRESSES), at least 5 working days prior to the meeting date.

Authority: 16 U.S.C. 1801 et seq.

Dated: May 3, 2016.
Tracey L. Thompson,
Acting Deputy Director, Office of Sustainable Fisheries, National Marine Fisheries Service.

[FR Doc. 2016-10692 Filed 5-5-16; 8:45 am]

BILLING CODE 3510-22-P